DEPARTMENT OF THE INTERIOR

National Park Service

Minor Boundary Revision at Joshua Tree National Park

AGENCY: National Park Service, Interior.

ACTION: Notice of boundary revision.

SUMMARY: This notice announces the revision to the boundary of Joshua Tree National Park, pursuant to the authority specified below, to include a 639-acre tract of adjacent land identified as Tract 101-78 located in San Bernardino County, California, and depicted on Drawing No. 156/92,003, Sheet 1 of 1, Segment Map 101, revised February 11, 2008. This map is on file and available for inspection at the following locations: National Park Service, Land Resources Program Center, Pacific West Region, 1111 Jackson St., Suite 700, Oakland, CA 94607 and National Park Service, Department of the Interior, Washington, DC 20240.

FOR FURTHER INFORMATION CONTACT: National Park Service, Chief, Pacific Land Resources Program Center, Pacific West Region, 1111 Jackson St., Suite 700, Oakland, CA 94607, (510) 817-1414. Before including your address, phone number, e-mail address, or other personal identifying information in your comment, you should be aware that your entire comment—including your personal identifying information—may be made publicly available at any time. While you can ask us in your comment to withhold your personal identifying information from public review, we cannot guarantee that we will be able to do so.

DATES: The effective date of this boundary revision is October 3, 2008.

SUPPLEMENTARY INFORMATION: 16 U.S.C. 460l-9(c)(1) provides that after notifying the House Committee on Natural Resources and the Senate Committee on Energy and Resources, the Secretary of the Interior is authorized to make this boundary revision. This action will add one tract containing 639 acres of land to the Mesa Verde National Park. The National Park Service proposes to acquire this parcel by donation from The Mojave Desert Land Trust.

The referenced map is on file and available for inspection at the following locations: National Park Service, Land Resources Program Center, Pacific West Region, 1111 Jackson St., Suite 700, Oakland, CA 94607 and National Park Service, Department of the Interior, Washington, DC 20240.

Dated: March 11, 2008.
Jonathan B. Jarvis,
Regional Director, Pacific West Region.

Editorial Note: This document was received in the Office of the Federal Register on September 29, 2008.

[FR Doc. E8-23305 Filed 10-2-08; 8:45 am]

BILLING CODE 4310-EK-P